DEPARTMENT OF HOMELAND SECURITY

Federal Emergency Management Agency

[Docket ID FEMA-2018-0002; Internal Agency Docket No. FEMA-B-1842]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 5, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1842, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

Community | Community map repository address
Barnstable County, Massachusetts (All Jurisdictions)
Project: 16-01-0273S Preliminary Date: April 18, 2018
Town of Bourne | Bourne Town Hall, 24 Perry Avenue, Buzzards Bay, MA 02532.
Bristol County, Massachusetts (All Jurisdictions)
Project: 16-01-0273S Preliminary Date: April 18, 2018
City of Fall River | City Hall, 1 Government Center, Fall River, MA 02722.
City of New Bedford | City Hall, 133 William Street, New Bedford, MA 02740.
Town of Acushnet | Parting Ways Building, 130 Main Street, 2nd Floor, Acushnet, MA 02743.
Town of Dartmouth | Town Hall, 400 Slocum Road, Dartmouth, MA 02747.
Town of Fairhaven | Town Hall, 40 Center Street, Fairhaven, MA 02719.
Town of Freetown | Freetown Town Hall, 3 North Main Street, Assonet, MA 02702.
Town of Westport | Town Hall, 816 Main Road, Westport, MA 02790.
Norfolk County, Massachusetts (All Jurisdictions)
Project: 16-01-0273S Preliminary Date: April 18, 2018
Town of Cohasset | Town Hall, 41 Highland Avenue, Cohasset, MA 02025.
Plymouth County, Massachusetts (All Jurisdictions)
Project: 16-01-0273S Preliminary Date: April 18, 2018
Town of Abington | Town Hall, 500 Gliniewicz Way, Abington, MA 02351.
Town of Carver | Town Hall, 108 Main Street, Carver, MA 02330.
Town of Duxbury | Town Hall, 878 Tremont Street, Duxbury, MA 02332.
Town of Halifax | Town Hall, 499 Plymouth Street, Halifax, MA 02338.
Town of Hanover | Town Hall, 550 Hanover Street, Hanover, MA 02339.
Town of Hanson | Town Hall, 542 Liberty Street, Hanson, MA 02341.
Town of Hingham | Town Hall, 210 Central Street, Hingham, MA 02043.
Town of Kingston | Town House, 26 Evergreen Street, Kingston, MA 02364.
Town of Marion | Town House, 2 Spring Street, Marion, MA 02738.
Town of Marshfield | Town Hall, 870 Moraine Street, Marshfield, MA 02050.
Town of Mattapoisett | Town Hall, 16 Main Street, Mattapoisett, MA 02739.
Town of Middleborough | Town Hall, 10 Nickerson Avenue, Middleborough, MA 02346.
Town of Norwell | Town Hall, 345 Main Street, Room 112, Norwell, MA 02061.
Town of Pembroke | Town Hall, 100 Center Street, Pembroke, MA 02359.
Town of Plymouth | Town Hall, 26 Court Street, Plymouth, MA 02360.
Town of Plympton | Town Hall, 5 Palmer Road, Plympton, MA 02367.
Town of Rochester | Town Hall, 1 Constitution Way, Rochester, MA 02770.
Town of Rockland | Town Hall, 242 Union Street, Rockland, MA 02370.
Town of Scituate | Town Hall, 600 Chief Justice Cushing Highway, Scituate, MA 02066.
Town of Wareham | Memorial Town Hall, 54 Marion Road, Wareham, MA 02571.
Musselshell County, Montana and Incorporated Areas
Project: 17-08-0803S Preliminary Date: March 22, 2018
City of Roundup | City Office, 34 3rd Avenue West, Roundup, MT 59072.
Unincorporated Areas of Musselshell County | Musselshell County Emergency Operations Center, 704 1st Street East, Roundup, MT 59072.
Petroleum County, Montana and Incorporated Areas
Project: 17-08-0803S Preliminary Date: March 22, 2018
Unincorporated Areas of Petroleum County | Petroleum County Courthouse, 302 East Main, Winnett, MT 59087.
Rosebud County, Montana and Incorporated Areas
Project: 17-08-0803S Preliminary Date: March 22, 2018
Unincorporated Areas of Rosebud County | Rosebud County Commission, 1200 Main Street, Forsyth, MT 59327.
Newport County, Rhode Island (All Jurisdictions)
Project: 16-01-0273S Preliminary Date: April 18, 2018
Town of Little Compton | Town Hall, 40 Commons, Little Compton, RI 02837.
Town of Tiverton | Town Hall, 343 Highland Road, Tiverton, RI 02878.

[FR Doc. 2018-16876 Filed 8-6-18; 8:45 am]

BILLING CODE 9110-12-P